FEDERAL COMMUNICATIONS COMMISSION

47 CFR Part 73

[DA 03-2261; MB Docket No. 03-161; RM-10708]

Radio Broadcasting Services; Tallapoosa, GA

AGENCY: Federal Communications Commission.

ACTION: Proposed rule.

SUMMARY: This document requests comments on a petition for rulemaking filed by SSR Communications, Inc. requesting the allotment of Channel 255A at Tallapoosa, Georgia. The coordinates for Channel 255A at Tallapoosa are 33-39-20 and 85-15-27. There is a site restriction 10.3 kilometers (6.4 miles) south of the community. Channel 255A at this site conflicts with Channel 253C, Atlanta, Georgia. However, Station WSB has consented to the reclassification of its license from Class C to Class C0 in MB Docket 03-77 (68 FR 17592, April 10, 2003) which will remove the conflict with Channel 255A. The issuance of a Report and Order in this proceeding may be withheld pending final action in Docket 03-77 and the filing of an application by Station WSB, Atlanta, to operate on Channel 253C0 in lieu of Channel 253C.

DATES: Comments must be filed on or before September 5, 2003, and reply comments on or before September 22, 2003.

ADDRESSES: Secretary, Federal Communications Commission, 445 Twelfth Street, SW., Washington, DC 20554. In addition to filing comments with the FCC, interested parties should serve the petitioner's counsel as follows: Cary S. Tepper, Booth, Freret, Imlay & Tepper, P.C., 7900 Wisconsin Avenue, Suite 304, Bethesda, Maryland 20814-3628.

FOR FURTHER INFORMATION CONTACT: Kathleen Scheuerle, Media Bureau, (202) 418-2180.

SUPPLEMENTARY INFORMATION: This is a synopsis of the Commission's Notice of Proposed Rule Making, MB Docket No. 03-161, adopted July 9, 2003, and released July 14, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.k

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Georgia, is amended by adding Tallapoosa, Channel 255A.

Federal Communications Commission.
John A. Karousos,
Assistant Chief, Audio Division, Media Bureau.

[FR Doc. 03-18830 Filed 7-23-03; 8:45 am]

BILLING CODE 6712-01-P